DEPARTMENT OF DEFENSE

Department of the Army, Corps of Engineers

[COE-2021-0002]

Water Resources Development Act of 2020 Comment Period and Stakeholder Sessions

AGENCY: U.S. Army Corps of Engineers, DoD.

ACTION: Request for comments; announcement of stakeholder sessions.

SUMMARY: The Assistant Secretary of the Army for Civil Works (ASA(CW)) is issuing this notice for a comment period for stakeholders and other interested parties to provide input and recommendations to the ASA(CW) on any provisions in the Water Resources Development Act (WRDA) of 2020. The Office of the ASA(CW) will consider all comments received before any implementation guidance is issued.

DATES: Five stakeholder sessions will be held to allow the public to provide input on any provisions in WRDA 2020. Commenters can provide information on any provision of interest during each session. We encourage stakeholders with specific interests to a U.S. Army Corps of Engineers (Corps) mission area to participate in the session aligned with that mission area. The ASA(CW) and the Corps will co-host focused sessions using webinars/teleconferences by means of the web link https://usace1.webex.com/meet/WRDA2020 and teleconference information at (844) 800-2712, Code 199 937 4287 at the following dates/times: March 16, 2021 from 1:00 p.m. to 3:00 p.m. Eastern to receive comments on Navigation (Inland and Coastal) provisions; March 23, 2021 from 1:00 p.m. to 3:00 p.m. Eastern to receive comments on Flood Risk and Coastal Risk Storm Damage provisions; March 30, 2021 from 1:00 to 3:00 p.m. Eastern to receive comments on Ecosystem Restoration and Nuisance Species provisions; April 6, 2021 from 1:00 to 3:00 p.m. Eastern to receive comments on Water Supply and Hydropower provisions; and April 13, 2021 from 1:00 to 3:00 p.m. Eastern to receive comments on any WRDA 2020 provisions. The public comment period will end on May 7, 2021. Comments must be received on or before that date to be considered during development of implementation guidance.

ADDRESSES: You may submit meeting requests or comments, identified by Docket ID No. COE-2021-0002, by any of the following methods:

Federal eRulemaking Portal: http://www.regulations.gov/. Follow the online instructions for submitting comments.

Email: WRDA2020@usace.army.mil. Include Docket ID No. COE-2021-0002 in the subject line of the message.

Mail: U.S. Army Corps of Engineers, ATTN: Ms. Amy Frantz, CEW-P, U.S. Army Corps of Engineers, 3F91, 441 G St. NW, Washington, DC 20314.

Hand Delivery/Courier: Due to security requirements, we cannot receive comments by hand delivery or courier. Comments received may be posted without change to https://www.regulations.gov/, including any personal information provided.

FOR FURTHER INFORMATION CONTACT: All requests for further information on the notice and the stakeholder sessions may be directed to Mr. Gib Owen, 571-274-1929 or gib.a.owen.civ@mail.mil. Mr. Owen may also be contacted by mail at Office of the Assistant Secretary of the Army for Civil Works, 108 Army Pentagon, Washington, DC 20310-0108.

SUPPLEMENTARY INFORMATION: This comment period is being conducted in accordance with Section 1105 of the Water Resources Development Act of 2018 (Pub. L. 115-270). The ASA-CW will hold focused stakeholder sessions using webinars/teleconferences by means of the web link https://usace1.webex.com/meet/WRDA2020 and teleconference information at (844) 800-2712 Code 199 937 4287. See dates and times above. The final guidance will be available to the public on a publicly accessible website (https://www.usace.army.mil/Missions/Civil-Works/Project-Planning/Legislative-Links/wrda_2020/).

Vance F. Stewart, III,
Senior Official Performing the Duties of the Assistant Secretary of the Army (Civil Works).

[FR Doc. 2021-04659 Filed 3-5-21; 8:45 am]

BILLING CODE 3720-58-P